NATIONAL CREDIT UNION ADMINISTRATION

Privacy Act of 1974: System of Records

AGENCY: National Credit Union Administration (NCUA).

ACTION: Notice of a New System of Records.

SUMMARY: Pursuant to the Privacy Act of 1974, 5 U.S.C. 552a, the National Credit Union Administration (NCUA) is proposing to establish a new system of records.

DATES: This action will be effective without further notice on February 6, 2017 unless comments are received that would result in a contrary determination.

ADDRESSES: You may submit comments to NCUA by any of the following methods:

• Federal eRulemaking Portal: http://www.regulations.gov. Follow the instructions for submitting comments.

• NCUA Web site: http://www.ncua.gov/RegulationsOpinionsLaws/proposed_regs/proposed_regs.html. Follow the instructions for submitting comments.

• Email: Address to regcomments@ncua.gov. Include “[Your name]—Comments on NCUA 20 SORN” in the email subject line.

• Fax: (703) 518-6319. Use the subject line described above for email.

• Mail: Address to Gerard Poliquin, Secretary of the Board, National Credit Union Administration, 1775 Duke Street, Alexandria, Virginia 22314-3428.

• Hand Delivery/Courier: Same as mail address.

FOR FURTHER INFORMATION CONTACT: Martha Ninichuk, Deputy Director of the Office of Small Credit Union Initiatives, NCUA, 1775 Duke Street, Alexandria, VA 22314, or telephone: (703) 518-1581, or Linda Dent, Senior Agency Official for Privacy, Office of General Counsel, NCUA, 1775 Duke Street, Alexandria, Virginia 22314, or telephone: (703) 518-6567.

SUPPLEMENTARY INFORMATION:

NCUA Is Proposing To Establish a New System of Records. In accordance with the Privacy Act of 1974 (5 U.S.C. 552a), as amended, NCUA is issuing public notice of its intent to establish a new system of records, Small Credit Union Learning Center, NCUA-20. The system of records described in this notice will maintain records related to NCUA's Office of Small Credit Union Initiatives' online training courses for credit union elected officials and employees. For convenience, the proposed new system of records, “Small Credit Union Learning Center, NCUA-20,” is published below.

National Credit Union Administration.
Gerard Poliquin,
Secretary of the Board.

SYSTEM NAME AND NUMBER:

Small Credit Union Learning Center—NCUA 20.

SECURITY CLASSIFICATION:

None.

SYSTEM LOCATION:

NCUA, 1775 Duke Street, Alexandria, VA 22314; PowerTrain, 8201 Corporate Drive, Suite 580, Landover, MD 20785; OPM, 1900 E Street NW., Suite 4439-AB, Washington, DC 20415.

SYSTEM MANAGER(S):

Deputy Director, Office of Small Credit Union Initiatives, NCUA, 1775 Duke Street, Alexandria, VA 22314.

AUTHORITY FOR MAINTENANCE OF THE SYSTEM:

12 U.S.C. 1751.

PURPOSE(S) OF THE SYSTEM:

To provide and manage online training courses for credit union elected officials and employees.

CATEGORIES OF INDIVIDUALS COVERED BY THE SYSTEM:

Credit union elected officials and employees who complete the training course(s).

CATEGORIES OF RECORDS IN THE SYSTEM:

Training records, which may include name, email address, username, password, credit union name, charter number, course name, and date of completion of the training course(s).

RECORD SOURCE CATEGORIES:

Individuals who complete the training course(s).

ROUTINE USES OF RECORDS MAINTAINED IN THE SYSTEM, INCLUDING CATEGORIES OF USERS AND PURPOSES OF SUCH USES:

In addition to those disclosures generally permitted under 5 U.S.C. 552a(b) of the Privacy Act, these records or information contained therein may specifically be disclosed outside NCUA as a routine use pursuant to 5 U.S.C. 552a(b)(3) as follows, and:

1. NCUA's Standard Routine Uses apply to this system of records.

2. At the request of a specific credit union, records pertaining to individuals associated with the requesting credit union may be shared with that credit union.

POLICIES AND PRACTICES FOR STORAGE OF RECORDS:

Records are maintained in electronic form.

POLICIES AND PRACTICES FOR RETRIEVABILITY OF RECORDS:

Records are retrieved by any one or more of the following: name, username, email address, credit union name, charter number, course name, and month or year of completion of a training course.

POLICIES AND PRACTICES FOR RETENTION AND DISPOSAL OF RECORDS:

Records are maintained in accordance with the General Records Retention Schedules issued by the National Archives and Records Administration (NARA) or a NCUA records disposition schedule approved by NARA.

Records existing on computer storage media are destroyed according to the applicable NCUA media sanitization practice.

ADMINISTRATIVE, TECHNICAL, AND PHYSICAL SAFEGUARDS:

NCUA has adopted appropriate administrative, technical, and physical controls in accordance with NCUA's information security policies to protect the security, integrity, and availability of the information, and to ensure that records are not disclosed to or accessed by unauthorized individuals.

RECORD ACCESS PROCEDURES:

Individuals wishing access to their records should submit a written request to the Privacy Officer, NCUA, 1775 Duke Street, Alexandria, VA 22314, and provide the following information:

a. Full name.

b. Any available information regarding the type of record involved.

c. The address to which the record information should be sent.

d. You must sign your request.

Attorneys or other persons acting on behalf of an individual must provide written authorization from that individual for the representative to act on their behalf. Individuals requesting access must also comply with NCUA's Privacy Act regulations regarding verification of identity and access to records (12 CFR 792.55).

CONTESTING RECORD PROCEDURES:

Individuals wishing to request an amendment to their records should submit a written request to the Privacy Officer, NCUA, 1775 Duke Street, Alexandria, VA 22314, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

NOTIFICATION PROCEDURE:

Individuals wishing to learn whether this system of records contains information about them should submit a written request to the Privacy Officer, NCUA, 1775 Duke Street, Alexandria, VA 22314, and provide the following information:

a. Full name.

b. Any available information regarding the type of record involved.

c. The address to which the record information should be sent.

d. You must sign your request.

Attorneys or other persons acting on behalf of an individual must provide written authorization from that individual for the representative to act on their behalf. Individuals requesting access must also comply with NCUA's Privacy Act regulations regarding verification of identity and access to records (12 CFR 792.55).

EXEMPTIONS PROMULGATED FOR THE SYSTEM:

None.

[FR Doc. 2016-31209 Filed 12-23-16; 8:45 am]

BILLING CODE 4510-FW-P